DEPARTMENT OF ENERGY

Energy Efficiency and Renewable Energy

Federal Energy Management Program; Federal Purchasing of Energy-Efficient Standby Power Devices

AGENCY: Office of Energy Efficiency and Renewable Energy, Department of Energy.

ACTION: Notice of availability of a preliminary list of standby power products and testing guidelines.

SUMMARY: The Department of Energy (DOE or Department) is publishing a preliminary standby product list and testing guidelines on its website as part of the implementation of Executive Order 13221, which directs government agencies to purchase devices with minimal standby power—at or below one watt where available. Manufacturers will continue to submit self-certified data for the standby power levels of their products. The list of products which includes computer and office, video, audio, telecommunications, and other products, will regularly be updated with these new voluntary manufacturer submittals. The list, guidelines, and instructions on submitting product data can be found on the DOE website at: http://www.eren.doe.gov/femp/procurement

ADDRESSES: Copies of this notice may be read at the Freedom of Information Reading Room, U.S. Department of Energy, Forrestial Building, Room 1E-190, 1000 Independence Avenue, SW., Washington, DC 20585, (202) 586-3142, between the hours of 9 a.m. and 4 p.m., Monday and Friday, except Federal holidays. Additional information on standby power, federal purchasing, and Executive Order 13221 can be found on the DOE website at: http://www.eren.doe.gov/femp/procurement

FOR FURTHER INFORMATION CONTACT: Ms. Alison Thomas, Program Manager, U.S. Department of Energy, Office of Energy Efficiency and Renewable Energy, EE-90, 1000 Independence Avenue, SW., Washington, DC 20585-0121, (202) 586-2099, email alison.thomas@ee.doe.gov

SUPPLEMENTARY INFORMATION: On July 31, 2001, President Bush signed Executive Order 13221, directing government agencies to purchase devices with minimal standby power—at or below one watt where available. He further ordered the Department of Energy (DOE), in consultation with the General Services Administration (GSA), the Defense Logistics Agency (DLA) and others, to develop a list of products that comply with this requirement. DOE is required to revise the list annually but will be updating the list as new manufacturer data is received.

Douglas L. Faulkner,
Principal Deputy Assistant Secretary for Energy Efficiency and Renewable Energy.

[FR Doc. 01-32093 Filed 12-28-01; 8:45 am]

BILLING CODE 6450-01-P